DEPARTMENT OF TRANSPORTATION

National Highway Traffic Safety Administration

Discretionary Incentive Grants To Support Increased Seat Belt Use Rates

AGENCY: National Highway Traffic Safety Administration, DOT.

ACTION: Announcement of discretionary grants to support innovative projects designed to increase seat belt use rates.

SUMMARY: The National Highway Traffic Safety Administration (NHTSA) announces the second year of a discretionary grant program under Section 1403 of the Transportation Equity Act for the 21st Century (TEA-21) to provide funding to States for innovative projects to increase seat belt use rates. Consistent with last year, the goal of this program is to increase seat belt use rates across the nation in order to reduce the deaths, injuries, and societal costs that result from motor vehicle crashes. This notice solicits applications from the States, the District of Columbia and Puerto Rico, through their Governors' Representatives for Highway Safety, for funds to be made available in FY 2001. Detailed application instructions are provided in the Application Contents section of this Notice. The Section 157 Innovative grants will be awarded competitively based upon the evaluation results of the applications received. Detailed information on the evaluation criteria is provided in the Application Review Procedures and Evaluation Criteria section of this Notice.

DATES: Applications must be received by the office designated below on or before July 26, 2000.

ADDRESSES: Applications must be submitted to the National Highway Traffic Safety Administration, Office of Contracts and Procurement (NAD-30), ATTN: Amy Poling, 400 7th Street, SW, Room 5301, Washington, DC 20590. All applications submitted must include a reference to NHTSA Grant Program No. DTNH22-00-G-09200

FOR FURTHER INFORMATION CONTACT: General administrative questions may be directed to Amy Poling, Office of Contracts and Procurement by e-mail at apoling@nhtsa.dot.gov. or by phone at (202) 366-9552. Programmatic questions relating to this grant program should be directed to Philip Gulak, Occupant Protection Division (NTS-12), NHTSA, 400 7th Street, SW, Room 5118, Washington, DC 20590, by e-mail at pgulak@nhtsa.dot.gov, or by phone at (202) 366-2708. Interested applicants are advised that no separate application package exists beyond the contents of this announcement.

SUPPLEMENTARY INFORMATION:

Background

The Transportation Equity Act for the 21st Century (TEA-21), Pub.L. 105-178, was enacted on June 9, 1998. Section 1403 of TEA-21 contained a safety incentive grant program for use of seat belts. Under this program, funds are allocated each fiscal year from 1999 until 2003 to States that exceed the national average seat belt use rate or that improve their State seat belt use rate, based on certain required determinations and findings. Section 1403 provided that, beginning in fiscal year 2000, any funds remaining unallocated in a fiscal year after the determinations and findings related to seat belt use rates have been made are to be used to “make allocations to States to carry out innovative projects to promote increased seat belt use rates.” Today's notice solicits applications for funds that will become available in fiscal year 2001 under this latter provision.

TEA-21 imposes several requirements under the innovative projects funding provision. Specifically, in order to be eligible to receive an allocation, a State must develop a plan for innovative projects to promote increased seat belt use rates and submit the plan to the Secretary of Transportation (by delegation, to NHTSA). NHTSA was directed to establish criteria governing the selection of State plans that are to receive allocations and was further directed to “ensure, to the maximum extent practicable, demographic and geographic diversity and a diversity of seat belt use rates among the States selected for allocations.” Finally, subject to the availability of funds, TEA-21 provides that the amount of each grant under a State plan is to be not less than $100,000.

In the following sections, the agency describes the application and award procedures for receipt of funds under this provision, including requirements related to the contents of a State's plan for innovative projects and the criteria the agency will use to evaluate State plans and make selections for award. To assist the States in formulating plans that meet these criteria, we have provided an extensive discussion of strategies for increasing seat belt use and of the ways in which States might demonstrate innovation. Please refer to the Appendix at the end of this Notice for additional background information about strategies that have been used in the past to increase belt use.

Objective of This Grant Program

The objective of this grant program is to increase State seat belt use rates, for both adults and children, by supporting the implementation of innovative projects that build upon strategies known to be effective in increasing seat belt use rates. Because one of the best ways to ensure that children develop a habit of buckling up is for parents to properly restrain them in child safety seats, efforts to increase the use of child safety seats, in addition to seat belts, may be included among the innovative efforts in a State's plan. However, efforts to increase seat belt use rates must remain the focus of the State's plan.

Examples of Effective Innovative Strategies

Recent seat belt use increases in California, North Carolina, Louisiana, Georgia, Maryland, and the District of Columbia (see discussion in next section), as well as increases following national mobilizations, have demonstrated the tremendous potential of highly visible enforcement of strong laws to increase seat belt and child seat use. Given the dramatic results of these programs, NHTSA believes that highly visible enforcement is an important foundation upon which any effective program should be based. An extensive review of the efforts in both the United States and Canada demonstrates that, without a core of highly visible enforcement efforts, high usage rates have not been achieved in any major jurisdiction.

In view of these findings, to be considered for award of funds under this program, the State's innovative project plan should be based on a core component of highly visible enforcement of its seat belt use law with the clear intent of increasing the State's seat belt use rate. A proposal to increase seat belt use in only a limited number of jurisdictions, that would have a questionable impact on the overall state seat belt use rate, may be rejected during the evaluation process. Other components of the plan should support the core enforcement component. If a State is already pursuing a significant and visible enforcement effort, the innovative project plan should detail components that support, expand, or complement the existing enforcement effort. States submitting an innovative project plan with a core component (and supporting components) based on an approach other than enforcement should provide a strong rationale for the proposed approach, preferably accompanied by research evidence, demonstrating the significant potential for increasing the State's seat belt use rate. NHTSA will carefully consider this rationale in its evaluation of the proposal.

A State may demonstrate innovation in its enforcement efforts in a number of ways. If a State is not currently engaged in any form of highly visible enforcement of its occupant protection laws, implementation of such a program, in and of itself, would be innovative to that State. Additionally, innovation may be demonstrated in gaining essential support, implementing statewide training programs, and planning the logistics for wide scale enforcement supported by public information activities. For States that already are engaged in substantial enforcement efforts, innovation can be demonstrated by expanding these efforts. This might include finding more effective ways to reach rural, urban, or diverse groups with strategies designed to address the problem of low seat belt use among those groups. States that have upgraded their laws recently to allow for primary enforcement may wish to initiate innovative ways to implement, enforce, and publicize their newly enacted legislation. For States with secondary enforcement laws, where a motorist must be stopped for another offense before being cited for failure to buckle up, innovation may be demonstrated by integrating the enforcement of the seat belt law with enforcement of another traffic safety law (e.g., an alcohol impaired driving law). Many opportunities for innovation exist, regardless of the State's current seat belt use rate or its ongoing efforts to increase it.

Following are some examples of innovative activities in support of a core component of enforcement:

—Initiate, or expand in novel ways, the operation of existing State or local enforcement-related campaigns;

—Implement highly visible seat belt and child safety seat enforcement efforts in major urban areas, in rural areas, or throughout the State;

—Expand participation across the State in semi-annual national seat belt enforcement mobilizations (i.e., Operation ABC conducted in May and November);

—Plan and support efforts to train and motivate law enforcement officers, prosecutors and judges to consistently enforce, prosecute and adjudicate occupant protection law violations;

—Mount a highly visible program to implement newly enacted legislation which upgrades the State's seat belt or child passenger safety law;

—Initiate or expand public information and education programs designed to complement newly upgraded legislation and/or enhanced enforcement efforts;

—Establish new partnerships and coalitions to support ongoing implementation of legislation or enforcement efforts (e.g., health care and medical groups, partnerships with diverse groups, businesses and employers);

—Initiate or expand public awareness campaigns targeted to specific populations that have low seat belt use (e.g., part-time users; parents of children 0-15 years old; minority populations, including Native Americans; rural communities; males 15-24 years old; occupants of light trucks and sport utility vehicles);

—Implement a program to train law enforcement personnel on the importance of seat belt use, the specifics of the State's seat belt use law, and the importance of enforcing such law to increase usage rates;

—Initiate or expand standardized child passenger safety training of police officers and/or child passenger safety checks and/or clinics across broad geographical areas (e.g., statewide, in major metropolitan areas, in rural areas of the State);

—Initiate, or expand in novel ways, campaigns which use enforcement of other traffic laws (e.g., driving while intoxicated laws) as a means for implementing highly visible enforcement of seat belt use laws.

If a State wishes to submit a plan proposing a core component other than enforcement, it should demonstrate innovation by proposing to perform supporting activities similar in scope to those listed above. The State should demonstrate that the proposed activities have the potential to increase the State's seat belt use rate.

Self-Evaluations of Programs, Management and Resources

Meaningful and timely self-evaluations of each State's innovative programs, management, and associated resources are very important to improving programs in subsequent years. On an annual basis, grantees and NHTSA need to generate the most useful insights and most valuable lessons possible from the 157 program. Consequently, program evaluation will be a necessary component of each award (see Application Contents, Section C.2.e.).

NHTSA Involvement

In support of the activities undertaken by this grant program, NHTSA will:

1. Provide a Contracting Officer's Technical Representative (COTR) to coordinate activities between the Grantee and NHTSA during grant performance, and to serve as a liaison between NHTSA Headquarters, NHTSA Regional offices and the grantee.

2. Provide information and technical assistance from government sources within available resources and as determined appropriate by the COTR.

Availability of Funds and Period of Support

The efforts solicited in this announcement will be supported through the award of grants to a number of States, on the basis of the evaluation criteria identified below. The number of grants awarded will depend upon the merits of the applications received, the amount of funds available in fiscal year 2001, and the size of the grants awarded to individual States. The total amount of funds to be made available is not known at this time, as it is dependent upon appropriations by the Congress and the amount of allocations to States based on State seat belt use rates achieved (see discussion in Background section, above). However, the agency estimates that as much as $25-$30 million may become available for this program in fiscal year 2001.

In accordance with TEA-21, the minimum amount of an individual grant award to a State will be $100,000, subject to the availability of funds. However, NHTSA may make individual awards in amounts significantly greater than $100,000, subject to the availability of funds and consistent with the merits of a State's application. In fiscal year 2000, forty-six Innovative grants were awarded. Those grants ranged from $121,500 to $1,557,608. At this time, neither the exact amount of funds available nor the number and proposed costs of meritorious State applications can be determined. There is no assurance that the number of grant awards in FY 2001 will be the same or similar to the number of awards in FY 2000, nor is there any assurance that those States that received awards in FY 2000 will receive awards in FY 2001. In addition, NHTSA may choose to fund an entire plan, or portions of a plan or it may choose to reject a plan, after review based on the evaluation criteria. There is no cost-sharing requirement under this program. The period of support for a grant under this program will be a total of 15 months, with 12 months of plan implementation, and three months for evaluation and preparation of the annual report.

NHTSA estimates that the award of Section 157 Innovative Grants for fiscal year 2001 will occur during January 2001.

Allowable Uses of Federal Funds

Allowable uses of Federal funds shall be governed by the relevant allowable cost section and cost principles referenced in 49 CFR part 18—Department of Transportation Uniform Administrative Requirements for Grants and Cooperative Agreements to State and Local Governments. Funds provided to a State under this grant program shall be used to carry out the activities described in the State's plan for which the grant is awarded.

Eligibility Requirements

Only the 50 States, the District of Columbia, and Puerto Rico, through their Governors' Representatives for Highway Safety, will be considered eligible to receive funding under this grant program.

Application Procedures

Each applicant must submit one original and two copies of the application package to: NHTSA, Office of Contracts and Procurement (NAD-30), ATTN: Amy Poling, 400 7th Street, SW, Room 5301, Washington, DC 20590. An additional three copies will facilitate the review process, but are not required.

Applications must be typed on one side of the page only. Applications must include a reference to NHTSA Grant Program No. DTNH22-00-G-09200. Only complete application packages submitted by a State's Governor's Representative for Highway Safety on or before July 26, 2000 will be considered.

Application Contents

This year, the required contents of each State's application will be based upon the State's application and award results for FY 2000 under this grant program.

A. If a State received an award based on a one-year proposal and would like to continue the same or similar work, it may submit an updated or modified version of that proposal. The State is encouraged to modify or strengthen its proposal as appropriate to increase its effectiveness in raising its seat belt use rate. An evaluation component must be included. A Continuation Application using the SF 424 must be submitted which confirms that the same effort will be continued, or indicates what changes are proposed, along with the itemized budget for the proposed effort.

B. If a State received an award based on a proposal that requested funding for several years, and the State wishes to continue the same effort, the State need only re-submit the part of its proposal (or a modified version of such), that relates to FY 2001. The State is encouraged to modify or strengthen its proposal to increase its effectiveness in raising its seat belt use rate. An evaluation component must be included. If there are any changes, additions, or deletions to the original scope of work identified and budgeted for the second year, a Continuation Application using the SF 424 must be submitted which provides a narrative explanation of the proposed differences, along with an itemized budget for the proposed effort.

C. If a State is applying for the first time, or if a State applied and did not receive an award in FY 2000, or if the State is proposing a completely new effort, the State must include in its application all of the contents listed below:

l. The application package must be submitted with OMB Standard Form 424, (Rev. 7-97 or 4-88, including 424A and 424B), Application for Federal Assistance, with the required information provided and the certified assurances included. While the Form 424-A deals with budget information, and section B identifies Budget Categories, the available space does not permit a level of detail which is sufficient to provide for a meaningful evaluation of the proposed costs. A supplemental sheet should be provided which presents a detailed breakdown of the proposed total project effort, including evaluation and reporting, (direct labor, including labor category, level of effort, and rate; direct materials, including itemized equipment; travel and transportation, including projected trips and number of people traveling; subcontracts/subgrants, with similar detail, if known; and overhead). and costs the applicant proposes to contribute or obtain from other sources in support of the projects in the innovative project plan.

2. All applications shall include a State plan detailing innovative projects to increase seat belt use rates. The State plan must provide the following information:

a. An Introduction section with a brief general description of the State's population density, any unique population characteristics, a short summary of the status of the seat belt use law in the State, and the pattern of estimated seat belt use rates for the State.

b. A Discussion section that presents the principal goals and objectives of the proposed plan and articulates the potential to increase State seat belt use rates, with supporting rationale. This section should also identify any proposed partnerships, coalitions, or leveraging of resources that will be employed as a means to implement a comprehensive and significant enforcement effort, as well as public information or educational activities. Any known barriers to implementation of the State's plan should be identified, with a discussion of how such barriers will be overcome. Relevant data based on studies of the program should be included or footnoted. Supporting documentation from concerned interests other than the applicant may be included.

Documentation of existing public and/or political support may be included (e.g. endorsement of the Governor, State Police or Patrol, State Association of Chiefs of Police, State Medical Society, etc).

c. A Project Description section, with a detailed description of the innovative projects to be undertaken by the State under the plan, including, for each activity:

(1) the key strategies to be employed to achieve a significant seat belt use rate increase (e.g., enforcement, public information and education, training, incentive/reward efforts);

(2) the innovative features (e.g. new participants, expanded efforts, unique resources, design or technological innovations, reductions in cost or time, integration with existing State efforts, extraordinary community involvement); and

(3) a work plan listing milestones in chronological order to show the schedule of expected accomplishments and their target dates. For example, in a work plan based on an enforcement component, the State should provide the following information:

A description of the proposed enforcement waves (if a sTEP-type enforcement activity is included in the State's proposal), detailing

• The approximate dates when each wave will occur

• How long each wave will last (i.e., duration of actual intensified enforcement)

• The number of law enforcement agencies that are expected to participate in each wave

• The approximate cumulative percentage of the State's population served by the participating local law enforcement agencies, and what affect this population could have on the State's seat belt use rate

• The kinds of law enforcement activities and strategies that will take place in each wave (e.g., checkpoints, saturation patrols, foot patrols at selected intersections, etc.)

• The number of officers that will participate

• The number of hours, on average, each officer will participate during each wave

• The number of law enforcement contacts, on average, each officer is expected to make per hour during each wave

• The percentage of these contacts, on average, that are expected to result in a citation for a seat belt or child passenger safety violation.

A State that proposes a component other than enforcement should provide a similarly comprehensive work plan containing all relevant milestones.

d. A Personnel section, which identifies the proposed program manager, key personnel and other proposed personnel considered critical to the successful accomplishment of the activities under the State's plan. A brief description of their qualifications and respective responsibilities shall be included. The proposed level of their effort and contributions to the various activities in the plan shall also be identified. Each organization, corporation, or consultant who will work on the innovative project plan shall be identified, along with a short description of the nature of the effort or contribution and relevant experience.

e. An Evaluation section, with a description of how the State will evaluate and measure the outcomes of the activities in its innovative project plan. It is critically important that the innovative programs funded as a result of this announcement be carefully evaluated so that others may learn the relative strengths and weaknesses of the strategies and approaches undertaken and what effects they have on seat belt use rates. The evaluation section should describe the methods for assessing actual results achieved under the plan. Outcomes can be documented in a number of ways. Increases in observed seat belt use and reductions in motor vehicle crash fatalities and injuries provide the ultimate measure of success. However, intermediate measures also may be used to measure progress. For a program based on an enforcement component, these measures may include: (i) Increases in the number of law enforcement personnel trained to enforce occupant protection laws; (ii) increased statewide participation in semi-annual enforcement mobilizations (Operation ABC); (iii) increased public perception of ongoing enforcement and public education activities; (iv) increased numbers of public and private sector partners involved in implementing the Statewide programs that support enforcement efforts; (v) the number of incentive programs, including those that complement enforcement efforts; or (vi) extent to which occupant protection enforcement activities are integrated with other State enforcement activities. Data sources should be identified, and collection and analysis approaches should be described. In particular, the State's proposal should describe how the State intends to assess the effectiveness of its project with respect to:

• Seat belt use rates

• Level of actual ticketing, other enforcement activities and activity to generate support for enforcement

• Public awareness of ticketing and other enforcement efforts

• Public support for seat belt and child passenger safety enforcement.

• Encouraging specific enforcement-related media efforts

For a program based on a component other than enforcement, the State should provide a similar level of detail in measuring progress and assessing outcomes.

f. An Options section, in which the state may choose to propose either optional tasks or activities in addition to the core set of tasks or activities, or optional levels of effort. For either type of option, the State must include a separate budget which clearly delineates the costs associated with each optional task or level of effort. For example, a State may propose a project plan that includes five week-long enforcement waves with the annual project budget, as well as an optional level of effort for an additional sixth enforcement wave and its associated costs. Doing this will allow maximum flexibility in the amount of funding awarded to a State based on funds available.

Application Review Procedures and Evaluation Criteria

Initially, all applications will be reviewed to confirm that the applicant is an eligible recipient and to ensure that the application contains all of the information required by the Application Contents section of the notice. Each complete application from an eligible recipient then will be evaluated by an Evaluation Committee. Incomplete applications will be rejected without further review. This evaluation includes a process of reviewing all grant applications; submitting technical, program and budget questions about the proposals to applicants, where necessary; reviewing answers to these questions; and engaging in negotiations where appropriate. This process is expected to extend over the course of several months, and applicants may expect correspondence of this nature throughout this time period. Using this process, the applications will be evaluated in accordance with the following criteria:

1. Evaluation Criterion 1 (80% of total score): The goal(s) the State proposes to achieve, as described in its innovative project plan. The overall soundness and feasibility of the plan for achieving the goal(s), and the potential effectiveness of the proposed activities in the plan for increasing the State's seat belt use rate. The extent to which the plan details a significant and comprehensive enforcement effort or, where another approach is selected, provides evidence supporting the effectiveness of the proposed approach. Regardless of method, the goal must be to increase the State's seat belt use rate. Under this first criterion, all applications will be evaluated using the following sub-factors:

(a) Is the State's plan sound and feasible to effectively achieve the stated goal(s) for increasing the State's seat belt use rate?

(b) Does the plan detail a significant and comprehensive enforcement effort or, if another approach is proposed, is there evidence supporting the effectiveness of the approach?

(c) Are the data collection methodologies and analytical approaches adequately described in the evaluation plan and will the plan effectively measure the outcomes of the proposed activities?

2. Evaluation Criterion 2 (20% of total score): The organizational resources the State will draw upon, and how the State will provide the program management capability and personnel expertise to successfully perform the activities in its innovative project plan. The adequacy of the proposed personnel (including subcontractor and subgrantee personnel) to successfully perform the proposed activities, including qualifications and experience, the various disciplines represented and the relative level of effort proposed for the professional, technical, and support staff, will be considered.

Each application will be reviewed and rated in accordance with the evaluation criteria outlined above. If an application receives a low rating, NHTSA may eliminate it from further consideration for award without discussions with an offeror. For applications that are not eliminated during this initial review, NHTSA may suggest revisions as a condition of further consideration, during the negotiation process described above, to ensure the most efficient and effective performance consistent with the objectives of achieving increased State seat belt use rates. It is anticipated that awards will be made in January 2001.

Special Award Selection Factors

After evaluating all applications received, in the event that insufficient funds are available to award all requested amounts to all meritorious applicants, NHTSA may consider the following special award factors in the award decision:

1. Every effort will be made to provide grants to a diverse group of States representing a broad range of geographic, demographic, and use rate characteristics. Thus, preference may be given to an applicant that fits the need for such diversity.

2. Preference may be given to an applicant on the basis that its application is effectively integrated and coordinated with other ongoing efforts in the State, resulting in additional opportunity for immediately increasing seat belt use rates. This could include proposed cost-sharing strategies, and/or the use of other federal, State, local and private funding sources to complement those available under this announcement.

Terms and Conditions of the Award

1. Prior to award, each grantee must comply with the certification requirements of 49 CFR part 20, Department of Transportation New Restrictions on Lobbying, and 49 CFR part 29, Department of Transportation Government-wide Debarment and Suspension (Non-procurement) and Government-wide Requirements for Drug Free Workplace (Grants).

2. Reporting Requirements and Deliverables:

a. Quarterly Progress Reports should include a summary of the previous quarter's enforcement and other activities and accomplishments, significant problems encountered or anticipated, a brief itemization of expenditures made during the quarter, and proposed activities for the upcoming quarter. Any decisions and actions required in the upcoming quarter should be included in the report.

b. Draft Final Report: The grantee shall prepare a Draft Final Report that includes a complete description of the innovative projects conducted, including partners, overall program implementation, evaluation methodology and findings from the program evaluation. In terms of information transfer, it is important to know what worked and what did not work, under what circumstances, and what can be done to avoid potential problems in future projects. The grantee shall submit the Draft Final Report to the COTR 60 days prior to the end of the performance period. The COTR will review the draft report and provide comments to the grantee within 30 days of receipt of the document.

c. Final Report: The grantee shall revise the Draft Final Report to reflect the COTR's comments. The revised final report shall be delivered to the COTR 15 days before the end of the performance period. The grantee shall supply the COTR :

—A camera ready version of the document as printed.

—A copy, on appropriate media (diskette, Syquest disk, etc.), of the document in the original program format that was used for the printing process.

Note: Some documents require several different original program languages (e.g., PageMaker was the program format for the general layout and design and Power point was used for charts and yet another was used for photographs, etc.). Each of these component parts should be available on disk, properly labeled with the program format and the file names. For example, Power point files should be clearly identified by both a descriptive name and file name (e.g., 1994 Fatalities—chart1.ppt).

—A complete version of the assembled document in portable document format (PDF) for placement of the report on the world wide web (WWW). This will be a file usually created with the Adobe Exchange program of the complete assembled document in the PDF format that will actually be placed on the WWW. The document would be completely assembled with all colors, charts, side bars, photographs, and graphics. This can be delivered to NHTSA on a standard 1.44 diskette (for small documents) or on any appropriate archival media (for large documents) such as a CD ROM, TR-1 Mini cartridge, Syquest disk, etc.

—Four additional hard copies of the final document.

3. During the effective performance period of grants awarded as a result of this announcement, the grant shall be subject to the National Highway Traffic Safety Administration's General Provisions for Assistance Agreements, dated July 1995.

Issued on: May 19, 2000.
Rose A. McMurray,
Associate Administrator for Traffic Safety Programs.

Appendix: Strategies That Have Proven Effective in Increasing Seat Belt Use

Seat belts, when properly used, are 45 percent effective in preventing deaths in potentially fatal crashes and 50 percent effective in preventing serious injuries. No other safety device has as much potential for immediately preventing deaths and injuries in motor vehicle crashes. The current level of seat belt use across the nation prevents more than 9,500 deaths and well over 200,000 injuries annually. Through 1997, more than 100,000 deaths and an estimated 2.5 million serious injuries have been prevented by seat belt use.

But, seat belt use rates and the resulting savings could be much greater. As of 1999, the average use rate among States in the U.S. was still well below the goal of 85 percent announced by the President for the year 2000 and at least a dozen States have use rates below 60 percent. On the other hand, use rates of 85-95 percent are a reality in most developed nations with seat belt use laws, and at least six U.S. States and the District of Columbia achieved use rates greater than 80 percent in 1999. A national use rate of 90 percent (the President's goal for 2005), among front seat occupants of all passenger vehicles, would result in the prevention of an additional 5,500 deaths and 130,000 serious injuries annually. This would translate into a $9 billion reduction in societal costs, including $356 million for Medicare and Medicaid.

Effective Enforcement Based Strategies

The history of efforts to increase seat belt use in the U.S. and in Canada suggests that highly visible enforcement of a strong seat belt law must be at the core of any effective program. No State has ever achieved a high seat belt use rate without such a component. Most States that have achieved rates greater than 70 percent have also had laws that allow for primary (standard) enforcement procedures.

Canada currently has a national seat belt use rate well above 90 percent. Nearly every province first attempted to increase seat belt use through voluntary approaches involving public information and education. These efforts were effective in achieving only very modest usage rates (no higher than 30 percent). Even the enactment of primary enforcement seat belt laws, without intense and highly visible enforcement, generally was not sufficient to achieve usage rates greater than 60-65 percent. By 1985, it became clear to Canadian and provincial officials that additional efforts would be needed to achieve levels of 80 percent or greater. These efforts, mounted from 1985 through 1995, centered around highly publicized “waves” of enforcement, a technique that had already been shown to increase seat belt use in Elmira, New York in 1985. When these procedures were implemented in the Canadian provinces, seat belt use generally increased from about 60 percent to well over 80 percent, within a period of 3-5 years.

The U.S. experience has been similar. Prior to 1980, many attempts were made to increase seat belt use through voluntary, persuasive, or educational methods. Most of these efforts were initiated at local, county, or state levels. Nationally, seat belt use remained very low, reaching only about 11 percent. From 1980-1984, efforts to increase seat belt use emphasized networking with various public and private groups to implement public education programs, incentives, and seat belt use policies. While there were some small gains documented in individual organizations, these efforts did not result in any significant increases in seat belt use in any large city or in any State. By the end of 1984, the national usage rate, as measured by a 19-city observational survey, was only about 15 percent.

In 1984, New York enacted the first mandatory seat belt use law and, from 1985 to 1990, at least 37 other States enacted such laws. Most of these laws were secondary enforcement laws that required an officer to observe another traffic violation before stopping and citing a driver for failure to wear a seat belt. During this period of time, the 19-city index of seat belt use increased from about 15 percent to nearly 50 percent. However, as was the case in Canada, the enactment of laws, by itself, was not sufficient to achieve high usage rates.

The Canadian successes using periodic, highly visible “waves” of enforcement, as well as scores of such efforts implemented in local jurisdictions in the U.S., prompted NHTSA to implement Operation Buckle Down (also called the “70 by ‘92” Program) in 1991. This two-year program focused on Special Traffic Enforcement Programs (STEPs) to increase seat belt use. It was followed by a national usage rate increase from about 53 percent in 1990 to 62 percent by the end of 1992 (as measured by a weighted aggregate of State surveys). Neither the level of enforcement nor its public visibility was uniform in every State. Had these “waves” of enforcement been implemented in a more uniform fashion in every State, the impact likely would have been much greater.

In order to demonstrate the potential of periodic, highly visible enforcement in a more controlled environment, the State of North Carolina implemented its Click-It or Ticket program in 1993. In this program, waves of coordinated and highly publicized enforcement efforts (i.e., checkpoints) were implemented in every county. As a result, seat belt use increased statewide, from 65 percent to over 80 percent, in just a few months. This program provided the clearest possible evidence to demonstrate the potential of highly visible enforcement to increase seat belt use in a large jurisdiction (i.e, an entire State).

On the west coast, the State of California had expended much effort over the years to enforce its secondary enforcement law. These efforts were successful in increasing the statewide usage rate to about 70 percent, where it plateaued. In 1993, California became the first State to upgrade its seat belt law from secondary to primary enforcement. As a result, the rate of seat belt usage increased by 13 percentage points (from 70 percent to 83 percent) in the first year after the law was upgraded.

The California success was a major factor in rekindling interest among safety officials in upgrading their secondary enforcement laws as a way to increase seat belt use. In 1995, Louisiana became the second State to upgrade from secondary to primary enforcement. As a result, it experienced an 18 percentage point increase (from 50 percent to 68 percent) over the next two years. Next, Georgia upgraded its law and experienced a 15 percentage point increase (from 53 percent to 68 percent). After mounting a highly visible enforcement effort in 1998 (Operation Strap `N Snap), Georgia's usage increased by another 10 percentage points. Similarly, Maryland upgraded its seat belt law in 1997, immediately mounted a two-month enforcement effort, and experienced a 13 percentage point increase in usage. In 1998, the District of Columbia reported a 24 percentage point gain in usage (from 58% to 82%) after enacting one of the strongest seat belt use laws in the nation and implementing several waves of highly visible enforcement. Following a 1999 three-week enforcement effort in Elmira, New York, belt use increased to 90 percent. Taken together, the experiences of North Carolina, California, Louisiana, Georgia, Maryland, the District of Columbia and most recently Elmira, New York have clearly demonstrated that highly visible enforcement of strong laws has tremendous potential for increasing seat belt use rates.

Visible enforcement of strong laws also appears to be an essential component of any effective program to increase the use of child safety seats. This is important since early use of child safety seats contributes to the later use of seat belts by children and young adults. There is also a strong relationship between child safety seat use. Studies conducted in several States have found that child safety seat use is nearly three times as high when a driver is buckled up as when a driver is not buckled up. Thus, efforts to persuade adults to buckle up may be the single most important way to get young children protected. However, with child safety seats, correct use is a major concern and the training of law enforcement officers, parents, and advocates is needed to minimize incorrect use and to ensure age-appropriate graduation to seat belts among young children who have outgrown safety seats. Clearly, efforts to increase the use of seat belts and child safety seats are interdependent and complementary.

Prior to the 1977 passage of the Child Passenger Safety (CPS) law in Tennessee, very little progress was made to get young children buckled up. Nationally, child safety seat use was less than 15 percent at the time. However, the Tennessee law was followed by the enactment of primary enforcement CPS laws in all States by 1985. This wave of legislation resulted in a major increase in child restraint use. By 1990, usage was estimated to be above 80 percent for infants and about 60 percent for toddlers.

Unfortunately, problems such as child seat misuse, premature graduation to seat belt use that skips the important step of booster seat use, and variation in age coverage continue to exist. Another issue to emerge has been the danger posed by passenger side air bags to unrestrained and improperly restrained children. This has led to NHTSA's publication of a final rule for advanced air bags and a new emphasis on programs to increase the proper use of child safety seats and revitalized law enforcement efforts in this area.

Obstacles to Increasing Seat Belt Use

Over the years, all of the States and many public and private sector organizations have been active participants in efforts to increase seat belt use. Public information and education efforts have been the dominant programs funded over the past two decades. Many States have identified major obstacles to enacting primary seat belt laws or implementing highly visible enforcement programs, even though such programs have been shown to result in high usage rates. Most frequently, State (and local) officials have identified a lack of resources for law enforcement as the single greatest barrier to implementing more intense, highly visible enforcement efforts. This lack of resources extends to funding, human resources, and public information support to conduct such campaigns. Over the past five years, many officials have indicated that, if they had the kind of resources provided to States like North Carolina for the Click It or Ticket program, they too would be able to mount similar programs and achieve similar results. The significant amount of funding that has become available under this grant program, combined with the additional new resources available under other TEA-21 programs, should drastically reduce this obstacle.

The second most frequently mentioned obstacle to mounting highly visible enforcement programs is a lack of support from key State and local leaders. Experience with the national mobilizations (Operation ABC) and with jurisdictions such as North Carolina, Georgia, Maryland and the District of Columbia suggests that this obstacle can be overcome to a significant degree by proactive efforts to gain the understanding, support and endorsement of various public and private organizations. Including a broad spectrum of such organizations as coalition members in the State's occupant protection program can be very effective in obtaining the commitment of key persons (e.g., the governor) and in gaining the support that is essential for sustained, highly visible enforcement efforts. Much innovation can be demonstrated in the way of developing public and official support for strong enforcement efforts.

Another obstacle frequently voiced by State and local enforcement officials is a lack of judicial and prosecutorial support for the enforcement of seat belt and child passenger safety laws. It has frequently been pointed out that an enforcement program can be undermined quickly if prosecutors fail to prosecute seat belt and child safety seat violations and judges repeatedly dismiss such cases. This can be overcome to some extent by educating prosecutors and judges across the State and urging them to value occupant protection laws as highly as any other traffic safety law.

Buckle Up America Campaign

In October 1997, the Buckle Up America (BUA) Campaign established ambitious national goals: (a) to increase seat belt use to 85 percent and reduce child-related fatalities (0-4 years) by 15 percent by the year 2000; and (b) to increase seat belt use to 90 percent and reduce child-related fatalities by 25 percent by the year 2005. This Campaign advocates a four part strategy: (1) building public-private partnerships; (2) enacting strong legislation; (3) maintaining high visibility law enforcement; (4) and conducting effective public education. Central to this Campaign's success is the encouragement of primary seat belt use laws and the implementation of two major enforcement mobilizations each year (Memorial Day and Thanksgiving holidays). During the November 1999 mobilization conducted throughout the week surrounding Thanksgiving, over 7,100 police agencies from all 50 states participated in Operation ABC.

The BUA Campaign and the efforts of the Air Bag and Seat Belt Safety Campaign (including Operation ABC) provide a useful framework for the implementation of this grant program. They provide a blueprint for projects that States may wish to implement, using funds to be made available in accordance with this notice. Conversely, this grant program provides an unprecedented opportunity to achieve the ambitious goals established under the BUA Campaign.

[FR Doc. 00-13099 Filed 5-24-00; 8:45 am]

BILLING CODE 4910-59-P